DEPARTMENT OF THE INTERIOR

Bureau of Indian Affairs

[167A2100DD/AAKC001030/A0A501010.999900]

Renewal of Agency Information Collection for the Tribal Reassumption of Jurisdiction Over Child Custody Proceedings

AGENCY: Bureau of Indian Affairs, Interior.

ACTION: Notice of submission to OMB.

SUMMARY: In compliance with the Paperwork Reduction Act of 1995, the Bureau of Indian Affairs (BIA) is seeking comments on the renewal of Office of Management and Budget (OMB) approval for the collection of information for the Tribal Reassumption of Jurisdiction over Child Custody Proceedings, authorized by OMB Control Number 1076-0112. This information collection expires November 30, 2015.

DATES: Submit comments on or before November 25, 2015.

ADDRESSES: You may submit comments on the information collection to the Desk Officer for the Department of the Interior at the Office of Management and Budget, by fax to (202) 395-5806 or you may send an email to: OIRA_Submission@omb.eop.gov. Please send a copy of your comments to: Evangeline Campbell, Chief, Division of Human Services, Office of Indian Services, Bureau of Indian Affairs, 1849 C Street NW., MS-4513-MIB, Washington, DC 20240; facsimile: (202) 208-5113; email: vangeline.Campbell@bia.gov.

FOR FURTHER INFORMATION CONTACT: Evangeline Campbell, (202) 513-7621. You may review the information collection request online at http://www.reginfo.gov. Follow the instructions to review Department of the Interior collections under review by OMB.

SUPPLEMENTARY INFORMATION:

I. Abstract

The BIA is seeking to renew the information collection conducted under 25 CFR 13, Tribal Reassumption of Jurisdiction over Child Custody Proceedings, which prescribes procedures by which an Indian tribe that occupies a reservation over which a State asserts any jurisdiction pursuant to Federal law may reassume jurisdiction over Indian child proceedings as authorized by the Indian Child Welfare Act, Public Law 95-608, 92 Stat. 3069, 25 U.S.C. 1918.

II. Request for Comments

On August 17, 2015, BIA published a notice announcing the renewal of this information collection and provided a 60-day comment period in the Federal Register (80 FR 49264). There were no comments received in response to this notice.

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it has a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0112.

Title: Tribal Reassumption of Jurisdiction over Child Custody Proceedings, 25 CFR 13.

Brief Description of Collection: The collection of information will ensure that the provisions of Public Law 95-608 are met. Any Indian tribe that became subject to State jurisdiction pursuant to the provisions of the Act of August 15, 1953 (67 Stat. 588), as amended by title IV of the Act of April 11, 1968 (82 Stat. 73, 78), or pursuant to any other Federal law, may reassume jurisdiction over child custody proceedings. The collection of information provides data that will be used in considering the petition and feasibility of the plan of the tribe for reassumption of jurisdiction over Indian child custody proceedings. We collect the following information: Full name, address, and telephone number of petitioning tribe or tribes; a tribal resolution; estimated total number of members in the petitioning tribe of tribes with an explanation of how the number was estimated; current criteria for tribal membership; citation to provision in tribal constitution authorizing the tribal governing body to exercise jurisdiction over Indian child custody matters; description of tribal court; copy of any tribal ordinances or tribal court rules establishing procedures or rules for exercise of jurisdiction over child custody matters; and all other information required by 25 CFR 13.11. Response is required to obtain or retain a benefit.

Type of Review: Extension without change of currently approved collection.

Respondents: Federally recognized Indian tribes who submit tribal reassumption petitions for review and approval by the Secretary of the Interior.

Annual Number of Responses: 1.

Obligation to Respond: Response required to obtain a benefit.

Estimated Time per Response: 8 hours.

Estimated Total Annual Hour Burden: 8 hours.

Estimated Total Annual Non-Hour Dollar Cost: $0.

Elizabeth K. Appel,
Director, Office of Regulatory Affairs and Collaborative Action—Indian Affairs.

[FR Doc. 2015-27135 Filed 10-23-15; 8:45 am]

BILLING CODE 4337-15-P